NATIONAL ARCHIVES AND RECORDS ADMINISTRATION

[NARA-2017-012]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by January 13, 2017. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Office of the Secretary (DAA-0016-2016-0003, 3 items, 2 temporary items). Case files related to scientific integrity and research misconduct, including written allegations, correspondence, copies of research records, case summaries, determinations, notifications, and decisional letters. Proposed for permanent retention are case files of historical value.

2. Department of the Army, Agency-wide (DAA-AU-2011-0001, 1 item, 1 temporary item). Master files of an electronic information system used to track the movement of supplies and equipment.

3. Department of the Army, Agency-wide (DAA-AU-2016-0008, 1 item, 1 temporary item). Master files of an electronic information system used to correct supply discrepancies.

4. Department of the Army, Agency-wide (DAA-AU-2016-0050, 1 item, 1 temporary item). Master files of an electronic information system that contains resource planning and financial management data.

5. Department of the Army, Agency-wide (DAA-AU-2016-0056, 1 item, 1 temporary item). Master files of an electronic information system used to process access requests for individual military personnel records.

6. Department of Defense, National Guard Bureau (DAA-0168-2016-0001, 2 items, 1 temporary item). Records relating to biographical information on agency leadership and spouses. Proposed for permanent retention are biographies of general officers.

7. Department of Defense, Office of the Secretary of Defense (DAA-0330-2016-0014, 1 item, 1 temporary item). Master files of an electronic information system used to manage human resource activities of the Military Health System for contractors and volunteers.

8. Department of Energy, Naval Nuclear Propulsion Program (DAA-0434-2015-0009, 74 items, 66 temporary items). Records relating to environmental health and safety including routine correspondence, safety checks, protective equipment, leak tests, alarm systems, equipment inspection, and related matters. Proposed for permanent retention are records relating to archaeology, environmental monitoring, radiological protection, waste shipments, radiological training, site closures, and incidents.

9. Department of Energy, Office of Science and Energy (DAA-0434-2016-0009, 1 item, 1 temporary item). Records relating to oil shale research created by the former Laramie Project Office including engineering drawings, maps, special events and activities at the site, employee activities, ancillary mining operations, routine correspondence, and related records.

10. Department of the Navy, Agency-wide (DAA-NU-2015-0009, 30 items, 21 temporary items). Records relating to ship designs and materials management records including routine correspondence, construction records, examinations, ship surveillance, equipment modifications, and related matters. Proposed for permanent retention are records relating to policy, planning, master technical reports and manuals, ship system planning, ship drawings, weight and moment changes, inclining studies, and ship photographs.

11. National Archives and Records Administration, Government-wide (DAA-GRS-2016-0016, 3 items, 3 temporary items). General Records Schedule for general administrative records including the day-to-day administrative records maintained, non-recordkeeping copies of electronic records, and records related to non-mission related internal agency committees.

12. National Mediation Board, Agency-wide (DAA-0013-2015-0002, 9 items, 4 temporary items). Routine program and administrative records including litigation case files, arbitration files, and housekeeping and general administrative files. Proposed for permanent retention are Presidential Emergency Board reports and case files, official published board actions, mediation case files, representation case files, and significant litigation case files.

13. Peace Corps, Office of Volunteer Recruitment and Selection (DAA-0490-2016-0004, 2 items, 2 temporary items). Records include fingerprint cards and recruiting records.

Laurence Brewer,
Chief Records Officer for the U.S. Government.

[FR Doc. 2016-29867 Filed 12-13-16; 8:45 am]

BILLING CODE 7515-01-P